DEPARTMENT OF COMMERCE

International Trade Administration

[A-570-881]

Malleable Cast Iron Pipe Fittings From the People's Republic of China: Notice of Rescission of the Antidumping Duty Administrative Review; 2015-2016

AGENCY: Enforcement and Compliance, International Trade Administration, Department of Commerce.

SUMMARY: On February 13, 2017, the Department of Commerce (Department) initiated an administrative review of the antidumping duty order on malleable cast iron pipe fittings from the People's Republic of China (PRC) for four companies. The Department previously rescinded this review with respect to two of the four companies. Based on timely withdrawal of requests for review, we are rescinding this administrative review with respect to the remaining two companies, Beijing Sai Lin Ke Hardware Co. Ltd. (SLK) and LDR Industries Inc (LDR).

DATES: Effective May 30, 2017.

FOR FURTHER INFORMATION CONTACT: Paul Stolz, AD/CVD Operations, Office III, Enforcement and Compliance, International Trade Administration, U.S. Department of Commerce, 1401 Constitution Avenue NW., Washington, DC 20230; telephone: (202) 482-4474.

SUPPLEMENTARY INFORMATION:

Background

On December 1, 2016, the Department published a notice of opportunity to request an administrative review of the antidumping duty order on malleable cast iron pipe fittings from the PRC for the December 1, 2015, through November 30, 2016, period of review (POR).¹ On January 3, 2017, the Department received from Anvil International, LLC (the petitioner) a timely request to conduct an administrative review of the antidumping duty order on malleable cast iron pipe fittings from the PRC for four producers and/or exporters of the subject merchandise.² Based on this request, on February 13, 2017, in accordance with section 751(a) of the Tariff Act of 1930, as amended (the Act), the Department published in the Federal Register a notice of initiation of an administrative review covering the period December 1, 2015, through November 30, 2016, with respect to four companies: SLK, LDR, Jinan Meide Casting Co., Ltd. (JMC), and Langfang Pannext Pipe Fitting Co., Ltd. (Pannext).³ Based on a timely withdrawal of requests for review, the Department previously rescinded the review, in part, with respect to Pannext and JMC.⁴ On April 27, 2017, the petitioner timely withdrew its request for an antidumping duty administrative review of the two remaining companies covered by the Initiation Notice, SLK and LDR.⁵

¹ See Antidumping or Countervailing Duty Order, Finding, or Suspended Investigation; Opportunity to Request Administrative Review, 81 FR 86694 (December 1, 2016).

² See letter from the petitioner, “Malleable Cast Iron Pipe Fittings from the People's Republic of China: Request for Administrative Review,” dated January 3, 2017.

³ See Initiation of Antidumping and Countervailing Duty Administrative Reviews, 82 FR 10457 (February 13, 2017) (Initiation Notice).

⁴ See Malleable Cast Iron Pipe Fittings from the People's Republic of China: Notice of Partial Rescission of the Antidumping Duty Administrative Review; 2015-2016, 82 FR 17798, 17799 (April 13, 2017) (Partial Rescission Notice).

⁵ See letter from the petitioner, “Malleable Cast Iron Pipe Fittings from the People's Republic Of China: Withdrawal of Request for Administrative Review,” dated April 27, 2017 (Withdrawal Request).

Rescission

Pursuant to 19 CFR 351.213(d)(1), the Secretary will rescind an administrative review, in whole or in part, if a party who requested a review withdraws the request within 90 days of the date of publication of the notice of initiation of the requested review. Anvil timely withdrew its request for an administrative review of SLK and LDR within the 90-day deadline. No other party requested a review of these companies. Accordingly, we are rescinding this review with respect to these companies, pursuant to 19 CFR 351.213(d)(1). Further, as a result of the rescission with respect to SLK and LDR and the prior rescission with respect to Pannext and JMC, this review is now rescinded in its entirety.

Assessment

Because the Department is rescinding this administrative review in its entirety, the Department will instruct U.S. Customs and Border Protection (CBP) to assess antidumping duties on all appropriate entries of malleable cast iron pipe fittings from the PRC. Antidumping duties shall be assessed at rates equal to the cash deposit of estimated antidumping duties required at the time of entry, or withdrawal from warehouse, for consumption, in accordance with 19 CFR 351.212(c)(1)(i). The Department intends to issue appropriate assessment instructions to CBP 15 days after the publication of this notice.

Notification to Importers

This notice serves as a reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Notification Regarding Administrative Protective Order

This notice serves as a final reminder to parties subject to an administrative protective order (APO) of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Act, and 19 CFR 351.213(d)(4).

Dated: May 24, 2017.
Gary Taverman,
Deputy Assistant Secretary for Antidumping and Countervailing Duty Operations.

[FR Doc. 2017-11091 Filed 5-26-17; 8:45 am]

BILLING CODE 3510-DS-P